DEPARTMENT OF HEALTH AND HUMAN SERVICES

Administration for Children and Families

Proposed Information Collection Activity; ACF-800: Child Care and Development Fund (CCDF) Annual Aggregate Report (Office of Management and Budget #0970-0150)

AGENCY: Office of Child Care, Administration for Children and Families, U.S. Department of Health and Human Services.

ACTION: Request for public comments.

SUMMARY: The Office of Child Care (OCC), Administration for Children and Families (ACF) is requesting a three-year extension with changes to the form ACF-800: CCDF Annual Aggregate Report (Office of Management and Budget #0970-0150, expiration 3/31/2025). OCC proposes changes incorporating new items on presumptive eligibility and on additional information about lead agencies using grants and contracts for direct services to expand parent options for certain types of care specified in the 2024 CCDF final rule.

DATES: Comments due January 6, 2025. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION: Description: The ACF-800 provides annual aggregate data on the children and families receiving direct services under CCDF. The ACF-800 provides administrative information on the type and methods of child care delivery and is used to analyze and evaluate the CCDF program and the extent to which State and Territory Lead Agencies are assisting families in addressing child care needs.

OCC has included a new section on presumptive eligibility to gather data on the number of presumptively eligible children and the outcomes post verification. Additional questions specific to infants and toddlers, children with disabilities, and children in underserved geographic areas have been added to comply with the 2024 CCDF final rule requiring lead agencies to make some use of grants or contracts for direct services for these populations. Finally, OCC seeks public comment on use of the pooling factor for CCDF administrative data reporting and whether it is possible for states to identify and separately report all children and families served by CCDF without the need to apply a pooling factor.

Respondents: State and Territory Lead Agencies.

Annual Burden Estimates
Instrument | Total number of respondents | Annual number of responses per respondent | Average burden hours per response | Annual burden hours
ACF-800: CCDF Annual Aggregate Report | 56 | 1 | 45 | 2,520

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

In addition, the Department seeks public comment on use of the pooling factor for CCDF administrative data reporting. The current ACF-800 and ACF-801 reports instruct states that pool CCDF and non-CCDF funds to report all children and families funded by these pooled funding sources on both the ACF-800 and ACF-801. ACF then applies a pooling factor (reported by the state on the ACF-800) to determine the number of children and families served by CCDF. During the public comment period, ACF is soliciting comments on this approach, or whether it is possible for states to identify and separately report all children and families served by CCDF without the need to apply a pooling factor.

Authority: The Child Care and Development Block Grant Act (42 U.S.C. 9857 et seq.); regulations at 45 CFR 98.70 and 98.71.

Mary C. Jones,
ACF/OPRE Certifying Officer.

[FR Doc. 2024-25690 Filed 11-4-24; 8:45 am]

BILLING CODE 4184-81-P